DEPARTMENT OF COMMERCE

United States Patent and Trademark Office

Submission for OMB Review; Comment Request; Third-Party Submissions and Protests

The United States Patent and Trademark Office (USPTO) will submit to the Office of Management and Budget (OMB) for clearance the following proposal for collection of information under the provisions of the Paperwork Reduction Act.

Agency: United States Patent and Trademark Office, Commerce.

Title: Third-Party Submissions and Protests.

OMB Control Number: 0651-0062.

Form Number(s):

• PTO/SB/429

Type of Request: Regular.

Number of Respondents: 1,450 responses.

Average Hours per Response: 14,500 hours.

Cost Burden: $74,160.

Needs and Uses: The public uses this information collection to contribute submissions and protests to the quality of issued patents. The USPTO will use this information, as appropriate, during the patent examination process to assist in evaluating the patent application.

Frequency: On occasion.

Respondent's Obligation: Required to Obtain or Retain Benefits.

OMB Desk Officer: Nicholas A. Fraser, email: Nicholas_A._Fraser@omb.eop.gov. Once submitted, the request will be publicly available in electronic format through www.regino.gov. Follow the instructions to view the Department of Commerce collections currently under review by OMB.

Further information can be obtained by:

• Email: InformationCollection@uspto.gov. Include “0651-0062 copy request” in the subject line of the message.

• Mail: Raul Tamayo, Senior Legal Advisor, Office of Patent Legal Administration, United States Patent and Trademark Office, P.O. Box 1450, Alexandria, VA 22313-1450.

Written comments and recommendations for the proposed information collection should be sent on or before August 22, 2018 to Nicholas A. Fraser, OMB Desk Officer, via email to Nicholas_A._Fraser@omb.eop.gov, or by fax to 202-395-5167, marked to the attention of Nicholas A. Fraser.

Marcie Lovett,
Director, Records & Information Governance Division (RIGD), Office of the Chief Technology Officer, Office of the Chief Information Officer, United States Patent and Trademark Office.

[FR Doc. 2018-15611 Filed 7-20-18; 8:45 am]

BILLING CODE 3510-16-P